FEDERAL MINE SAFETY AND HEALTH REVIEW COMMISSION

Sunshine Act Meeting; Cancellation of Meeting

“FEDERAL REGISTER” CITATION OF PREVIOUS ANNOUNCEMENT: Vol. 66, No. 93, at 24409, May 14, 2001.

TIME AND DATE: 2:00 p.m., Thursday, May 17, 2001.

PLACE: Room 6005, 6th Floor, 1730 K Street, N.W., Washington, D.C.

STATUS: Open.

CHANGES IN THE MEETING: The Commission meeting to consider and act upon Sec'y of Labor on behalf of Bernardyn v. Reading Anthracite Co., Docket Nos. PENN 99-129-D, etc., has been canceled. No earlier announcement of the cancellation was possible.

CONTACT PERSON FOR MORE INFO: Jean Ellen, (202) 653-5629 / (202) 708-9300 for TDD Relay / 1-800-877-8339 for toll free.

Jean H. Ellen,
Chief Docket Clerk.

[FR Doc. 01-12846 Filed 5-17-01; 12:50 pm]

BILLING CODE 6735-01-M